COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) and service(s) from the Procurement List that were furnished by nonprofit agencies employing persons who are blind or have other severe disabilities.

DATES: Date added to and deleted from the Procurement List: June 23, 2024.

ADDRESSES: Committee for Purchase From People Who Are Blind or Severely Disabled, 355 E Street SW, Suite 325, Washington, DC 20064.

FOR FURTHER INFORMATION CONTACT: For further information or to submit comments contact: Michael R. Jurkowski, Telephone: (703) 489-1322, or email CMTEFedReg@AbilityOne.gov.

SUPPLEMENTARY INFORMATION:

Deletions

On April 19, 2024 (89 FR 28752), the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

9930-00-NIB-0105—Kit, Post Mortem Bag, Basic, Straight Zipper, 36″ × 90″

9930-00-NIB-0106—Kit, Post Mortem Bag, Basic, Curved Zipper, 36″ × 90″

9930-00-NIB-0107—Kit, Post Mortem Bag, Heavy Duty, 36″ × 90″

9930-00-NIB-0108—Kit, Post Mortem Bag, Heavy Duty, XL, 72″ × 90″

9930-00-NIB-0109—Kit, Disaster Bag with ID Tags, 34″ × 96″

Authorized Source of Supply: BOSMA Enterprises, Indianapolis, IN

Contracting Activity: DLA TROOP SUPPORT, PHILADELPHIA, PA

Service(s)

Service Type: Grounds Maintenance Service

Mandatory for: Joint Interagency Task Force South, Key West, FL; Truman Annex; Key West, FL

Authorized Source of Supply: Goodwill Industries of South Florida, Inc., Miami, FL

Contracting Activity: DEPT OF THE ARMY, W453 JIATFS

Michael R. Jurkowski,
Director, Business Operations.

[FR Doc. 2024-11500 Filed 5-23-24; 8:45 am]

BILLING CODE 6353-01-P